DEPARTMENT OF TRANSPORTATION

Federal Motor Carrier Safety Administration

[Docket No. FMCSA-2006-24932]

Commercial Driver's License Standards; Application for Exemption; Volvo Trucks North America, Inc.

AGENCY: Federal Motor Carrier Safety Administration (FMCSA), DOT.

ACTION: Notice of application for exemption; request for comments.

SUMMARY: FMCSA announces that Volvo Trucks North America, Inc. (Volvo) has applied for an exemption from the Federal requirement for drivers of commercial motor vehicles (CMVs) to hold a commercial driver's license (CDL). Volvo requests that the exemption cover seven Swedish engineers and technicians who will test-drive CMVs for Volvo within the United States. All seven Volvo employees hold a valid Swedish CDL. Volvo states the exemption is needed to support a Volvo field test to meet future air quality standards, and to test-drive Volvo prototype vehicles to verify results in “real world” environments. Volvo believes the knowledge and skills tests and training program that Swedish drivers undergo to obtain a Swedish CDL ensures the exemption would provide a level of safety that is equivalent to, or greater than, the level of safety obtained by complying with the U.S. requirements for a CDL.

DATES: Comments must be received on or before September 7, 2006.

ADDRESSES: Your comments may be submitted by any of the following methods:

• Docket Management System (DMS) Web site at http://dmses.dot.gov/submit, under the last 5 digits of the Docket No. FMCSA-2006-24932, and following the online instructions for submitting comments;

• Fax: 1-202-493-2251;

• Mail: Docket Management Facility; U.S. Department of Transportation, 400 Seventh Street, SW., Nassif Building, Room PL-401, Washington, DC 20590-0001;

• Hand Delivery: Room PL-401 on the Plaza Level, 400 Seventh Street, SW., Washington, DC, between 9 a.m. and 5 p.m., Monday through Friday, except Federal holidays;

• Federal eRulemaking Portal at http://www.regulations.gov following the online instructions for submitting comments; or

Docket: To read background documents or comments received, go to http://dms.dot.gov at any time or Room PL-401 on the Plaza Level of the Nassif Building, 400 Seventh Street, SW., Washington, DC, between 9 a.m. and 5 p.m., Monday through Friday, except Federal holidays. The DMS is available 24 hours each day, 365 days per year. If you want to be notified that we received your comments by mail or hand delivery, please include a self-addressed, stamped envelope or postcard, or you can print an acknowledgement page if submitting comments online.

Privacy Act: Anyone may view or download comments submitted in any of DOT's dockets by the name of the commenter or name of the person signing the comment (if submitted on behalf of an association, business, labor union, or other entity). You may view DOT's complete Privacy Act Statement in the Federal Register published on April 11, 2000, at 65 FR 19477. It is also available at http://dms.dot.gov.

FOR FURTHER INFORMATION CONTACT: Mr. Thomas Yager, Chief, Driver and Carrier Operations Division, Office of Bus and Truck Standards and Operations, MC-PSD, Federal Motor Carrier Safety Administration, DOT, 400 Seventh Street, SW., Washington, DC 20590; Telephone: 202-366-4009; e-mail: MCPSD@fmcsa.dot.gov. Office hours are from 7:45 a.m. to 4:15 p.m. e.t., Monday through Friday, except Federal holidays.

SUPPLEMENTARY INFORMATION:

Background

Section 4007 of the Transportation Equity Act for the 21st Century (TEA-21), Pub. L. 105-178, 112 Stat. 107 (June 9, 1998), which amended 49 U.S.C. 31315 and 31136(e), authorizes the Agency to grant exemptions from the Federal Motor Carrier Safety Regulations (FMCSRs). In accordance with the implementing regulations under 49 CFR 381.315(a), FMCSA must publish a notice of each exemption request in the Federal Register. We must provide the public an opportunity to inspect the information relevant to the application, including any safety analyses that have been conducted. We must also provide an opportunity for public comment on the request.

We will review the safety analyses and the public comments and determine whether granting the exemption would likely achieve a level of safety equivalent to, or greater than, the level that would be achieved by the current regulation (49 CFR 381.305). We must publish the Agency's decision in the Federal Register (49 CFR 381.315(b)). If the Agency denies the request, we must state the reason for doing so. If the Agency grants the exemption, we must publish a notice to specify the person or class of persons receiving the exemption; the regulatory provision or provisions from which exemption is being granted; the effective period of the exemption (up to 2 years); and the terms and conditions of the exemption. The exemption may be renewed (49 CFR 381.300(b)).

On February 9, 2006, FMCSA published in the Federal Register notice of a similar request from Volvo Trucks North America, Inc. (Volvo) for an exemption for different drivers than those listed on this request (71 FR 6822). On May 12, 2006, FMCSA published in the Federal Register (71 FR 27780) a notice granting that exemption. This, however, is a notice of application by Volvo for exemption of additional drivers and, we are requesting comment on this notice.

Volvo Trucks North America, Inc.'s Application for an Exemption

Volvo has applied for an exemption from the commercial driver's license (CDL) rules, specifically 49 CFR 383.23, which prescribes licensing requirements for drivers operating commercial motor vehicles (CMVs) in interstate or intrastate commerce. Volvo requests the exemption because its driver-employees are citizens and residents of Sweden, and because they cannot apply for a CDL in any of the United States. A copy of the application is in Docket No. FMCSA-2006-24932.

The exemption would allow seven drivers to operate CMVs in interstate commerce as part of a team of drivers who will support a Volvo field test to meet future air quality standards, and to test-drive Volvo prototype vehicles at its test site and in the vicinity of Phoenix, Arizona, to verify vehicle results in “real world” environments. The drivers are: Freddy Blixt, Goran Alsen, Kjell Jansson, Johnny Adolfsson, Lars Svensson, Peter Hofsten, and Thorbjorn Ohlund.

Each driver holds a valid Swedish CDL, and according to Volvo, drivers applying for a Swedish-issued CDL must undergo a training program and pass knowledge and skills tests. Volvo believes the knowledge and skills tests and training program that Swedish drivers undergo to obtain a Swedish CDL ensure the exemption would provide a level of safety that is equivalent to, or greater than, the level of safety obtained by complying with the U.S. requirement for a CDL.

After a Swedish driver is granted a Swedish CDL, he or she is allowed to drive any CMV currently allowed on Swedish roads. There are no limits to types or weights of vehicles that may be operated by the drivers.

FMCSA has previously determined the process for obtaining a Swedish-issued CDL is comparable to, or as effective as the Federal requirements under Part 383, and adequately assesses a driver's ability to operate CMVs in the United States.

Request for Comments

FMCSA requests public comment from all interested persons on Volvo's application for an exemption from the CDL requirements of 49 CFR 383.23. See 49 U.S.C. 31315(b)(4) and 31136(e). The Agency will consider all comments received by close of business September 7, 2006. Comments will be available for examination in the docket. We will consider comments received after the comment closing date to the extent practicable.

Issued on: August 2, 2006.
David H. Hugel,
Acting Administrator.

[FR Doc. E6-12849 Filed 8-7-06; 8:45 am]

BILLING CODE 4910-EX-P